DEPARTMENT OF TRANSPORTATION

National Highway Traffic Safety Administration

[Docket No. NHTSA-2014-0078; Notice 1]

AGC Flat Glass North America, Inc., Receipt of Petition for Decision of Inconsequential Noncompliance

AGENCY: National Highway Traffic Safety Administration (NHTSA), Department of Transportation (DOT).

ACTION: Receipt of Petition.

SUMMARY: AGC Flat Glass North America, Inc., dba AGC Automotive Americas Co. (AGC) has determined that certain glazing that it manufactured as replacement equipment for model year 2003-2008 Toyota Matrix vehicles, do not fully comply with paragraphs S5.1 and S5.7 of Federal Motor Vehicle Safety Standard (FMVSS) No. 205, Glazing Materials. AGC has filed an appropriate report dated May 23, 2013, pursuant to 49 CFR part 573, Defect and Noncompliance Responsibility and Reports.

DATES: The closing date for comments on the petition is September 15, 2014.

ADDRESSES: Interested persons are invited to submit written data, views, and arguments on this petition. Comments must refer to the docket and notice number cited at the beginning of this notice and be submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

SUPPLEMENTARY INFORMATION:

I. AGC's Petition: Pursuant to 49 U.S.C. 30118(d) and 30120(h) (see implementing rule at 49 CFR part 556), AGC submitted a petition for an exemption from the notification and remedy requirements of 49 U.S.C. Chapter 301 on the basis that this noncompliance is inconsequential to motor vehicle safety.

This notice of receipt of AGC's petition is published under 49 U.S.C. 30118 and 30120 and does not represent any agency decision or other exercise of judgment concerning the merits of the petition.

II. Replacement Equipment Involved: Affected are approximately 1,435 replacement back windows (backlites) for model year 2003-2008 Toyota Matrix vehicles that AGC manufactured on February 28, 2012. The subject glass is labeled “AGC Automotive, DOT-376 M2H5 AS2, 30B, Temperlite.”

In the associated Defect and Noncompliance Report that AGC submitted to NHTSA pursuant to 49 CFR Part 573, AGC indicated that, as of May 23, 2014, approximately 941 of the affected backlites have already been removed from the stream of commerce.

III. Noncompliance: AGC explains that the noncompliance is that the affected glazing does not fully comply with Paragraph S5.1 of FMVSS No. 205 because some portions of the glass located in the wing area of the backlites may not fragment into pieces that are small enough to meet the standard set forth in ANSI Z26.1-1996 (fragment must weigh less than 4.25 g).

IV. Rule Text: Paragraph S5.1 of FMVSS No. 205 incorporates by reference ANSI Z26.1-1996 and other industry standards. Paragraph S5.7 (Fracture Test) of ANSI Z26.1-1996 requires that no individual fragment free of cracks and obtained within 3 minutes subsequent to test shall weigh more than 4.25 g (0.15 oz.).

V. Summary of AGC's Analyses: AGC stated its belief that the noncompliance exhibited by some glass fragments breaking into pieces that weigh more than 4.25 g does not create a risk to motor vehicle safety for the following reasons:

1. AGC testing demonstrates that the noncompliant fragments have no adverse impact on the characteristics of the glass performing as tempered glass.

2. The design of the 2003-2008 Toyota Matrix leaves it unlikely to cause any safety risks to any vehicle occupant if the ARG backlite breaks.

3. AGC's destructive testing confirmed all noncompliant fragments do not impact the safety of the vehicle or its occupants.

AGC stated that while it recognizes that its tests were static and that the actual results in a crash might be somewhat different if a collision broke this glass, AGC stated its belief that in a rear or partial rear collision, if the glass breaks, most of that glass will fall and remain in the general area of the breakage since the remainder of the vehicle will be propelled forward in the later phases of the crash. This makes it even less likely that any glass will enter or be propelled forward enough to reach the passenger compartment of a vehicle. ARG expects that the subject backlites will react no differently.

Refer to AGC's petition for more detailed descriptions of AGC's data and analyses that it believes support its reasoning.

AGC has additionally informed NHTSA that it has corrected the noncompliance so that all future production of the subject glazing will fully comply with FMVSS No. 205.

In summation, AGC believes that the described noncompliance of the subject glazing is inconsequential to motor vehicle safety, and that its petition, to exempt AGC from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject replacement equipment that AGC no longer controlled at the time it determined that the noncompliance existed. However, any decision on this petition does not relieve equipment distributors and dealers of the prohibitions on the sale, offer for sale, or introduction or delivery for introduction into interstate commerce of the noncompliant replacement equipment under their control after AGC notified them that the subject noncompliance existed.

Authority: (49 U.S.C. 30118, 30120: delegations of authority at 49 CFR 1.95 and 501.8)

Jeffrey M. Giuseppe,
Acting Director, Office of Vehicle Safety Compliance.

[FR Doc. 2014-19189 Filed 8-13-14; 8:45 am]

BILLING CODE 4910-59-P